DEPARTMENT OF JUSTICE

Antitrust Division

Notice Pursuant to the National Cooperative Research and Production Act of 1993—Utility Broadband Alliance, Inc.

Notice is hereby given that, on October 20, 2021, pursuant to Section 6(a) of the National Cooperative Research and Production Act of 1993, 15 U.S.C. 4301 et seq. (“the Act”), Utility Broadband Alliance, Inc. (“UBA”) has filed written notifications simultaneously with the Attorney General and the Federal Trade Commission disclosing changes in its membership. The notifications were filed for the purpose of extending the Act's provisions limiting the recovery of antitrust plaintiffs to actual damages under specified circumstances. Specifically, Exelon/Pepco Holdings, Neward, DE; Alliant Energy, Madison, WI; Cyient, Telangaga; INDIA; West Monroe Partners, Chicago, IL; Sitenna, Claymont, DE; Recptyv, San Diego, CA; Qualcomm, San Diego, CA; Q-net Security, St Louis, MO; Crown Castle, Canonsburg, PA; have joined as parties to this venture.

No other changes have been made in either the membership or planned activity of the group research project. Membership in this group research project remains open, and UBA intends to file additional written notifications disclosing all changes in membership.

On May 4, 2021, UBA filed its original notification pursuant to Section 6(a) of the Act. The Department of Justice published a notice in the Federal Register pursuant to Section 6(b) of the Act on June 10, 2021 (86 FR 30981).

The last notification was filed with the Department on July 26, 2021. A notice was published in the Federal Register pursuant to Section 6(b) of the Act on August 23, 2021 (86 FR 47151).

Suzanne Morris,
Chief, Premerger and Division Statistics, Antitrust Division.

[FR Doc. 2021-25705 Filed 11-23-21; 8:45 am]

BILLING CODE 4410-11-P